DEPARTMENT OF ENERGY

Federal Energy Regulatory Commission

[Project No. 2206-030]

Carolina Power & Light Company(d/b/a Progress Energy Carolinas, Inc.); Notice of Settlement Agreement and Soliciting Comments

July 31, 2007.

Take notice that the following settlement agreement has been filed with the Commission and is available for public inspection.

a. Type of Application: Settlement Agreement.

b. Project No.: P-2206-030.

c. Date filed: July 30, 2007.

d. Applicant: Carolina Power & Light Company (d/b/a Progress Energy Carolinas, Inc.).

e. Name of Project: Yadkin-Pee Dee Hydroelectric Project.

f. Location: On the Yadkin and Pee Dee Rivers in Montgomery, Stanly, Anson, and Richmond Counties, North Carolina. The project does not occupy federal lands.

g. Filed Pursuant to: Rule 602 of the Commission's Rules of Practice and Procedure, 18 CFR 385.602.

h. Applicant Contact: E. Michael Williams, Senior Vice President for Power Operations, Progress Energy, 410 S. Wilmington Street PEB 13, Raleigh, North Carolina 27602, Phone: (919) 546-6640.

i. FERC Contact: Stephen Bowler, 888 First St., NE., Washington, DC 20426, (202) 502-6861.

j. Deadline for filing comments: Twenty days from the filing date. Reply comments due 30 days from the filing date.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Progress Energy filed a settlement on behalf of itself and 12 other entities that signed the settlement. Other parties signing the settlement included state agencies, homeowners associations, environmental organizations, and various other stakeholders involved in the relicensing proceeding. The purpose of the settlement agreement is to resolve issues that have been raised by the settling parties in connection with the Progress Energy's application for a new license for the project and to establish Progress Energy's obligations for the protection, mitigation, and enhancement of resources affected by the project. Major issues covered in the settlement include: (1) Providing minimum instream flows, (2) developing and implementing a Low Inflow Protocol, (3) modifying reservoir water levels, (4) developing and implementing a dissolved oxygen plan, (5) improving recreational facilities and relocating and existing access site, (6) providing additional stream and riparian habitat protection measures, and (7) developing and implementing a Shoreline Management Policy and Historic Properties Management Plan for the Blewett Falls Development.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. E7-15283 Filed 8-6-07; 8:45 am]

BILLING CODE 6717-01-P